DEPARTMENT OF EDUCATION

[CFDA No. 84.120A]

Office of Postsecondary Education; Minority Science and Engineering Improvement Program; Notice Inviting Applications for New Awards for Fiscal Year (FY) 2002

Purpose of Program: The Minority Science and Engineering Improvement Program (MSEIP) is designed to effect long-range improvement in science and engineering education at predominantly minority institutions and to increase the flow of underrepresented ethnic minorities, particularly minority women, into scientific careers.

Eligibility for Grants: Under section 361 of Title III of the Higher Education Act as amended (HEA), the following entities are eligible to receive a grant under the MSEIP:

(1) Public and private nonprofit institutions of higher education that:

(A) Award baccalaureate degrees; and

(B) Are minority institutions;

(2) Public or private nonprofit institutions of higher education that:

(A) Award associate degrees; and

(B) Are minority institutions that:

(i) Have a curriculum that includes science or engineering subjects; and

(ii) Enter into a partnership with public or private nonprofit institutions of higher education that award baccalaureate degrees in science and engineering;

(3) Nonprofit science-oriented organizations, professional scientific societies, and institutions of higher education that award baccalaureate degrees, that:

(A) Provide a needed service to a group of minority institutions; or

(B) Provide in-service training for project directors, scientists, and engineers from minority institutions; or

(4) Consortia of organizations that provide needed services to one or more minority institutions, the membership of which may include:

(A) Institutions of higher education that have a curriculum in science or engineering;

(B) Institutions of higher education that have a graduate or professional program in science or engineering;

(C) Research laboratories of, or under contract with, the Department of Energy;

(D) Private organizations that have science or engineering facilities; or

(E) Quasi-governmental entities that have a significant scientific or engineering mission.

Eligible Applicants: (a) For institutional, design, and special projects described in 34 CFR 637.12, 637.13 and 637.14, respectively, public and private nonprofit minority institutions of higher education as defined in sections 361(1) and (2) of the HEA.

(b) For special projects described in 34 CFR 637.14(b) and (c): nonprofit organizations, institutions, and consortia as defined in section 361(3) and (4) of the HEA.

(c) For cooperative projects described in 34 CFR 637.15: groups of nonprofit accredited colleges and universities whose primary fiscal agent is an eligible minority institution as defined in 34 CFR 637.4(b).

Note: 1. A minority institution is defined in 34 CFR 637.4(b) as an accredited college or university whose enrollment of a single minority group or combination of minority groups exceeds 50 percent of the total enrollment.

Applications Available: February 11, 2002.

Deadline for Transmittal of Applications: March 29, 2002.

Deadline for Intergovernmental Review: May 29, 2002.

Estimated Available Funds: $8,500,000.

Estimated Range of Awards: $15,000-$500,000.

Estimated Average Size of Awards: The amounts referenced are advisory and represent the Department's best estimate at this time. The average size of an award is the estimate for a single-year project or for the first budget period of a multi-year project.

Institutional Projects

Estimated Range of Awards: $100,000-$300,000.

Estimated Average Size of Awards: $120,000.

Estimated Number of Awards: 16.

Design Projects

Estimated Range of Awards: $15,000-$20,000.

Estimated Average Size of Awards: $19,000.

Estimated Number of Awards: 2.

Special Projects

Estimated Range of Awards: $20,000-$150,000.

Estimated Average Size of Awards: $75,000.

Estimated Number of Awards: 8.

Cooperative Projects

Estimated Range of Awards: $100,000-$500,000.

Estimated Average Size of Awards: $280,000.

Estimated Number of Awards: 4.

Estimated Total Number of Awards: 30.

Note: The Department is not bound by any estimates in this notice. Applicants should periodically check MSEIP web site for further information on this program. The address is: http://www.ed.gov/offices/OPE/HEP/idues/mseip.html.

Project Period: Up to 36 months.

Applicable Regulations: (a) The Education Department General Administrative Regulations (EDGAR) in 34 CFR parts 74, 75, 77, 79, 82, 85, 86, 97, 98, and 99. (b) The regulations for this program in 34 CFR part 637.

Note: The regulations in 34 CFR part 86 apply to institutions of higher education only.

Applicability of Executive Order 13202: Applicants that apply for construction funds under these programs must comply with the Executive Order 13202 signed by President Bush on February 17, 2001 and amended on April 26, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements.

Projects funded under this program that include construction activity will be provided a copy of this Executive order and will be asked to certify that they will adhere to it.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2002, the U.S. Department of Education is continuing to expand its pilot project of electronic submission of applications to include additional formula grant programs and additional discretionary grant competitions. The Minority Science and Engineering Improvement Program, CFDA 84.120A is one of the programs included in the pilot project. If you are an applicant under the Minority Science and Engineering Improvement Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in the e-APPLICATION pilot, please note the following:

• Your participation is strictly voluntary.

• You will not receive any additional point value or penalty because you submit a grant application in electronic or paper format.

• You may submit all grant documents electronically including the Application for Federal Assistance under the Minority Science and Engineering Improvement Program (OMB No. 1840-0109), Project Summary Page, Budget Information—Non-Construction Programs (ED 524), and all necessary assurances and certifications.

• Within three working days of submitting your electronic application, fax a signed copy of the Application for Federal Assistance under the Minority Science and Engineering Improvement Program (OMB No. 1840-0109) to the Application Control Center after following these steps:

1. Print the Application for Federal Assistance under the Minority Science and Engineering Improvement Program (OMB No. 1840-0109) from the e-APPLICATION system.

2. Make sure the institution's Authorizing Representative signs this form.

3. Before faxing this form, submit your electronic application via the e-APPLICATION system. You will receive an automatic acknowledgement, which will include a PR/Award number (an identifying number unique to your application).

4. Place the PR/Award number in the upper right hand corner of the Application for Federal Assistance under the Minority Science and Engineering Improvement Program (OMB No. 1840-0109).

5. Fax the Application for Federal Assistance under the Minority Science and Engineering Improvement Program (OMB No. 1840-0109) to the Application Control Center at (202) 260-1349.

• We may request that you give us original signatures on all other forms at a later date.

You may access the electronic grant application for the MSEIP at: http://e-grants.ed.gov.

We have included additional information about the e-APPLICATION pilot project (see Parity Guidelines between Paper and Electronic Applications) in the application package.

FOR APPLICATIONS AND FURTHER INFORMATION CONTACT: Mr. Kenneth Waters or Ms. Deborah Newkirk, Institutional Development and Undergraduate Education Service, U.S. Department of Education, 1990 K Street, NW., 6th Floor, Washington, DC 20006-8516. Telephone: (202) 502-7586 for Mr. Waters and for Ms. Newkirk, (202) 502-7591. FAX: (202) 502-7861, or via Internet: ken.waters@ed.gov, deborah.newkirk@ed.gov.

If you use a telecommunications device for the deaf (TDD), you may call the Federal Information Relay Service (FIRS) at 1-800-877-8339.

Individuals with disabilities may obtain this document in an alternative format (e.g., Braille, large print, audiotape, or computer diskette) on request to the program contact persons listed under FOR APPLICATIONS AND FURTHER INFORMATION CONTACT.

Individuals with disabilities may obtain a copy of the application in an alternative format by contacting those persons. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1067-1067k.

Dated: February 6, 2002.
Kenneth W. Tolo,
Acting Deputy Assistant Secretary for Policy, Planning and Innovation, Office of Postsecondary Education.

[FR Doc. 02-3239 Filed 2-8-02; 8:45 am]

BILLING CODE 4000-01-P